NATIONAL AERONAUTICS AND SPACE ADMINISTRATION

[Notice 00-116]

NASA Advisory Council, Life and Microgravity Sciences and Applications Advisory Committee, Meeting

AGENCY: National Aeronautics and Space Administration.

ACTION: Notice of meeting.

SUMMARY: In accordance with the Federal Advisory Committee Act, Pub. L. 92-463, as amended, the National Aeronautics and Space Administration announces a meeting of the NASA Advisory Council, Life and Microgravity Sciences and Applications Advisory Committee.

DATES: Thursday, October 19, 2000, 10 a.m. to 5 p.m.; and Friday, October 20, 2000, 8 a.m. to 12 Noon.

ADDRESSES: National Aeronautics and Space Administration Headquarters, 300 E Street, SW., MIC-3, Room 3H46, Washington, DC 20546.

FOR FURTHER INFORMATION CONTACT: Dr. Stephen C. Davison, Code UG, National Aeronautics and Space Administration, Washington, DC 20546, 202/358-0647.

SUPPLEMENTARY INFORMATION: The meeting will be open to the public up to the seating capacity of the room. The agenda for the meeting is as follows:

• Action Status

• OLMSA Performance Against FY 2000 Targets

• Space Studies Board Update

• Status of ISS Program

• Update on Alpha Magnetic Spectrometer

• Radiation Health and Safety

• ISS Non-Governmental Organization Status

• Overview of the Proposed New Organization for Code U

• Code U Research Plans

• Subcommittee Reports

• Future LMSAAC Schedule

• Discussion of Committee Findings and Recommendations

It is imperative that the meeting be held on this date to accommodate the scheduling priorities of the key participants. Visitors will be requested to sign a visitor's register.

Dated: September 18, 2000.
Beth M. McCormick,
Advisory Committee Management Officer, National Aeronautics and Space Administration.

[FR Doc. 00-24402 Filed 9-21-00; 8:45 am]

BILLING CODE 7510-01-P